DEPARTMENT OF ENERGY

Federal Energy Regulatory Commission

[Project No. 14814-000]

Watterra Energy, LLC; Notice of Preliminary Permit Application Accepted for Filing and Soliciting Comments, Motions To Intervene, and Competing Applications

Correction

In notice document 2017-03155, appearing on page 11027, in the issue of Friday, February 17, 2017, make the following correction:

On page 11027, in the first column, in the document heading, below DEPARTMENT OF ENERGY and Federal Energy Regulatory Commission, “[Project No. 4814-000]” should read, “[Project No. 14814-000]”.

[FR Doc. C1-2017-03155 Filed 2-24-17; 8:45 am]

BILLING CODE 1301-00-D